DEPARTMENT OF LABOR

Employment and Training Administration

[TA-W-54,333 and TA-W-54,333A]

Louisville Ladder Group LLC, Smyrna, Tennessee, Louisville Ladder Group LLC, Louisville, Kentucky; Notice of Termination of Investigation

Pursuant to section 221 of the Trade Act of 1974, as amended, an investigation was initiated on February 23, 2004, in response to a petition filed by a company official on behalf of workers at Louisville Ladder Group LLC, Smyrna, Tennessee (TA-W-54,333) and Louisville Ladder Group LLC, Louisville, Kentucky (TA-W-54,333A).

The petitioner has requested that the petition be withdrawn. Consequently, the investigation has been terminated.

Signed in Washington, DC this 9th day of March, 2004.
Linda G. Poole,
Certifying Officer, Division of Trade Adjustment Assistance.

[FR Doc. 04-7182 Filed 3-30-04; 8:45 am]

BILLING CODE 4510-30-P